DEPARTMENT OF COMMERCE

National Institute of Standards and Technology

Public Meetings To Discuss Project 25 Compliance Assessment Program: Creating Software Test Tool Validation Process for Participating Laboratories

AGENCY: National Institute of Standards and Technology, Department of Commerce.

ACTION: Notice.

SUMMARY: The National Institute of Standards and Technology Office of Law Enforcement Standards (OLES), in cooperation with the Department of Homeland Security's Office of Interoperability and Compatibility (DHS/OIC) and representatives of the public safety community, will hold public meetings on March 11, 2009 and March 25, 2009. The first meeting will be held via WebEx over the Internet, and the second at the Institute for Telecommunication Sciences (ITS) in Boulder, CO. The purpose of these meetings is to bring Project 25 Compliance Assessment Program stakeholders together to discuss what the process will be to assess software based test tools for the Project 25 Compliance Assessment Program.

DATES: The first meeting will be held on March 11, 2009, from 1 p.m. until 5 p.m. MT. The second meeting will be held on March 25, 2009, from 9 p.m. until 5 p.m. MT. Please note registration and admittance instructions and other additional information under the SUPPLEMENTARY INFORMATION section of this notice.

ADDRESSES: The first meeting will be held via WebEx over the Internet. The second meeting will be held in the Radio Building (Building 1), Room 1107, 325 Broadway, Boulder, CO 80305. The web meeting and teleconference bridge information will be e-mailed out prior to each event. Please note registration and admittance instructions and other additional information under the SUPPLEMENTARY INFORMATION section of this notice.

FOR FURTHER INFORMATION CONTACT: Dereck Orr, (303) 497-5400, e-mail: dereck.orr@nist.gov. The mailing address is 325 Broadway, Mail Stop ITS.P, Boulder, CO, 80305. Information regarding OLES can be viewed at http://www.eeel.nist.gov/oles/. Information regarding DHS/OIC can be viewed at http://www.safecomprogram.gov. Information regarding ITS can be viewed at http://www.its.bldrdoc.gov.

SUPPLEMENTARY INFORMATION: In partnership with the U.S. Department of Homeland Security (DHS), Science and Technology Directorate (S&T), Command, Control and Interoperability Division (CCI), Office of Interoperability and Compatibility (OIC), the National Institute of Standards and Technology (NIST) Office of Law Enforcement Standards (OLES) is developing a process to assess software based test tools used by laboratories seeking DHS recognition for their competence to perform tests per the Project 25 Compliance Assessment Program Governing Board Compliance Assessment Bulletins. As the Project 25 suite of standards continues to mature, and interfaces continue to be developed, software based test tools have and will be developed to advance testing capabilities. These software based test tools, whether developed by a manufacturer, laboratory, or test tool development company, will play an important role in ensuring compliance with Project 25 standards.

The purpose of the March 11 and March 25 meetings is to bring Project 25 Compliance Assessment Program stakeholders together to discuss what the process will be to assess software based test tools for the Project 25 Compliance Assessment Program. Currently, hardware based test tools require calibration of their output, but software test tools are not explicitly covered. The IEEE-12207-2007 standard will be used as a basis of discussion for the meetings. The results of these and potential subsequent discussions will be used in the development of an addendum to the NIST Handbook 153-2008 to specifically cover the validation of software based test tools.

There is no charge for participation for either meeting. For the first meeting, the registration deadline is March 4, 2009. For the second meeting, because of meeting room restrictions, advance registration is mandatory and limited to three representatives from any one organization. There will be no on-site, same-day registration. The registration deadline for the second meeting is March 13, 2009. A teleconference bridge will be provided for the second meeting for those stakeholders that wish to participate but cannot attend in person.

Anyone wishing to attend the first meeting must register by close of business March 4, 2009, in order to participate. Please submit your name, e-mail address and phone number to Mr. Andrew Thiessen and he will provide you with the logistics information for the meeting. Mr. Thiessen's email address is andrew@its.bldrdoc.gov and his phone number is (303) 497-4427.

Anyone wishing to attend the second meeting must register by close of business March 13, 2009, in order to attend. Please submit your name, time of arrival, e-mail address and phone number to Ms. Kathy Mayeda and she will provide you with logistics information for the meeting. Ms. Mayeda's e-mail address is kmayeda@its.bldrdoc.gov and her phone number is (303) 497-5890. All attendees are required to submit their name, time of arrival, email address and phone number to Ms. Mayeda. Non-U.S. citizens must also submit their country of citizenship, title, employer/sponsor and address.

Dated: February 5, 2009.
Patrick D. Gallagher,
Deputy Director.

[FR Doc. E9-3164 Filed 2-13-09; 8:45 am]

BILLING CODE 3510-13-P